DEPARTMENT OF COMMERCE

International Trade Administration

[Application No. 10-4A001]

Export Trade Certificate of Review

ACTION: Notice of Application for an Amended Export Trade Certificate of Review by Alaska Longline Cod Commission, Application No. 10-4A001.

SUMMARY: The Secretary of Commerce, through the International Trade Administration, Office of Trade and Economic Analysis (“OTEA”), received an application for an amended Export Trade Certificate of Review (“Certificate”) from Alaska Longline Cod Commission. This notice summarizes the proposed amendment and seeks public comments on whether the amended Certificate should be issued.

FOR FURTHER INFORMATION CONTACT: Joseph Flynn, Director, Office of Trade and Economic Analysis, International Trade Administration, by telephone at (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the amended Certificate. Comments should refer to this application as “Export Trade Certificate of Review, application number 10-4A001.”

A summary of the current application follows.

Summary of the Application

Applicant: Alaska Longline Cod Commission, c/o Mundt MacGregor L.L.P., 271 Wyatt Way NE, Suite 106, Bainbridge Island, WA, 98110.

Contact: Duncan R. McIntosh, Attorney, (206) 319-1105.

Application No.: 10-4A001.

Date Deemed Submitted: August 9, 2018.

Proposed Amendment: Alaska Longline Cod Commission seeks to amend its Certificate as follows:

1. Add the following companies as new Members of the Certificate within the meaning of section 325.2(l) of the Regulations (15 CFR 325.2(l)):

• Alaskan Leader Vessel LLC, Lynden, WA

• Bristol Leader Fisheries LLC, Lynden, WA

• Bering Leader Fisheries LLC, Lynden, WA

• Northern Leader Fisheries LLC, Lynden, WA

• Prowler Fisheries, LLC, Seattle, WA

2. Delete the following companies as Members of the Certificate:

• Pathfinder Fisheries LLC, Seattle, WA

• Bering Select Seafoods Company, Seattle, WA

• Glacier Bay Fisheries LLC

3. Change/correct the name or location of the following Members of the Certificate:

• Alaskan Leader Fisheries, Inc., Lynden, WA changes to Alaskan Leader Fisheries LLC, Lynden, WA

• Coastal Villages Longline, LLC changes to Coastal Villages Longline LLC, Anchorage, AK

• Romanzoff Fishing Company, Seattle, WA changes to Romanzof Fishing Company, L.L.C., Seattle, WA

• Tatoosh Seafoods LLC, Seattle, WA changes to Tatoosh Seafoods, LLC, Edmonds, WA

• Beauty Bay Washington, LLC, Seattle, WA changes to Beauty Bay Washington, LLC, Edmonds, WA

• Blue North Fisheries, Inc, Seattle, WA changes to Blue North Fisheries, Inc., Seattle, WA

• Clipper Group, Ltd, Seattle, WA changes to Clipper Group, Ltd., Seattle, WA

• Liberator Fisheries, LLC, Seattle, WA changes to Liberator Fisheries LLC, Seattle, WA

• Siberian Sea Fisheries, LLC, Seattle, WA changes to Siberian Sea Fisheries LLC, Seattle, WA

Alaska Longline Cod Commission's proposed amendment of its Export Trade Certificate of Review would result in the following Membership list:

1. Akulurak LLC, Seattle, WA;

2. Alaskan Leader Fisheries LLC, Lynden, WA;

3. Alaskan Leader Seafoods LLC, Lynden, WA;

4. Alaskan Leader Vessel LLC, Lynden, WA;

5. Aleutian Spray Fisheries, Inc., Seattle, WA;

6. Beauty Bay Washington, LLC, Edmonds, WA;

7. Bering Leader Fisheries LLC, Lynden, WA;

8. Blue North Fisheries, Inc., Seattle, WA;

9. Blue North Trading Company, LLC, Seattle, WA;

10. Bristol Leader Fisheries LLC, Lynden, WA;

11. Clipper Group, Ltd., Seattle, WA;

12. Clipper Seafoods, Ltd., Seattle, WA;

13. Coastal Villages Longline LLC, Anchorage, AK;

14. Deep Sea Fisheries, Inc., Everett, WA;

15. Gulf Mist, Inc., Everett, WA;

16. Liberator Fisheries LLC, Seattle, WA;

17. Northern Leader Fisheries LLC, Lynden, WA;

18. Prowler Fisheries, LLC, Seattle, WA;

19. Romanzof Fishing Company, L.L.C., Seattle, WA;

20. Shelford's Boat, Ltd., Mill Creek, WA;

21. Siberian Sea Fisheries LLC, Seattle, WA;

22. Siu Alaska Corporation, Anchorage, AK;

23. Tatoosh Seafoods, LLC, Edmonds, WA.

Dated: August 16, 2018.
Joseph Flynn,
Director, Office of Trade and Economic Analysis, International Trade Administration.

[FR Doc. 2018-18051 Filed 8-21-18; 8:45 am]

BILLING CODE 3510-DR-P